ENVIRONMENTAL PROTECTION AGENCY

[FRL-8456-8]

Federal Agency Hazardous Waste Compliance

AGENCY: Environmental Protection Agency.

ACTION: Notice of twenty-second update of the Federal Agency Hazardous Waste Compliance Docket.

SUMMARY: The U.S. Environmental Protection Agency (EPA) is required to establish a Federal Agency Hazardous Waste Compliance Docket (“the Docket”) under Section 120(c) of the Comprehensive Environmental Response, Compensation, and Liability Act (CERCLA), as amended by the Superfund Amendments and Reauthorization Act (SARA) of 1986. Section 120(c) requires EPA to establish a Docket that contains certain information reported to EPA by Federal facilities that manage hazardous waste or from which a reportable quantity of hazardous substances have been released. The Docket is used to identify Federal facilities that should be evaluated to determine if they pose a threat to public health or welfare and the environment and to provide a mechanism to make this information available to the public. CERCLA section 120(c) requires that the Docket be updated every six months, as new facilities are reported to EPA by Federal agencies. EPA publishes a list of newly reported facilities in the Federal Register. The Docket contains information that is submitted by Federal facilities under the following authorities: CERCLA 103, and the Resource Conservation and Recovery Act (RCRA) sections 3005, 3010 and 3016. EPA published the first Docket in the Federal Register in 1988 (53 FR 4280).

CERCLA section 120(d) requires that EPA take steps to assure that a Preliminary Assessment (PA) be completed for those sites identified in the Docket and that the evaluation and listing of sites with a PA be completed within a reasonable time frame. The PA is designed to provide information for EPA to consider when evaluating the site for potential response action or listing on the National Priorities List (NPL).

Today's notice identifies the Federal facilities not previously listed on the Docket and reported to EPA since the last update of the Docket (70 FR 61616) on October 25, 2005, which was current as of February 4, 2005. In addition to the list of additions to the Docket, this notice includes a section with revisions (that is, corrections and deletions) of the previous Docket list. This update contains 13 additions and 2 deletions since the previous update, as well as numerous other corrections to the Docket list. At the time of publication of this notice, the new total number of Federal facilities listed on the Docket is 2,293.

DATES: This list is current as of November 4, 2006.

FOR FURTHER INFORMATION CONTACT: Electronic versions of the Docket and more information on its implementation can be obtained at http://www.epa.gov/fedfac/documents/docket.htm by clicking on the link for Update #22 to the Federal Agency Hazardous Waste Compliance Docket.

SUPPLEMENTARY INFORMATION:

Table of Contents

1.0 Introduction

2.0 Regional Docket Coordinators

3.0 Revisions of the Previous Docket

4.0 Process for Compiling the Updated Docket

5.0 Facilities Not Included

6.0 Facility Status Reporting, Including NFRAP Status Updates

7.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), requires the U.S. Environmental Protection Agency (EPA) to establish the Federal Agency Hazardous Waste Compliance Docket (“Docket”). The Docket contains information on Federal facilities that is submitted by Federal agencies to EPA under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators, transporters and TSD facilities to notify EPA of their hazardous waste activities; and RCRA section 3016 requires Federal agencies to submit biennially to EPA an inventory of their Federal hazardous waste facilities. CERCLA section 103(a) requires the owner or operators of vessels or facilities onshore or offshore to notify the National Response Center (NRC) of any spill or other release of a hazardous substance that equals or exceeds a reportable quantity (RQ), as defined by CERCLA section 101. CERCLA section 103(c) requires facilities that have “stored, treated, or disposed of” hazardous wastes and where there is “known, suspected, or likely releases” of hazardous substances to report their activities to EPA.

The Docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the Docket was published on February 12, 1988 (53 FR 4280). Updates of the Docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR 44200); January 2, 2003 (68 FR 107); July 11, 2003 (68 FR 41353); December 15, 2003 (68 FR 240); July 19, 2004 (69 FR 42989); December 20, 2004 (69 FR 75951); and October 25, 2005 (70 FR 61616). This notice constitutes the twenty-second update of the Docket.

Today's notice provides some background information on the Docket. Additional information on the Docket requirements and implementation are found in the Docket Reference Manual, Federal Agency Hazardous Waste Compliance Docket found at http://www.epa.gov/fedfac/documents/docket.htm or obtained by calling the Regional Docket Coordinators listed below. Today's notice also provides changes to the list of sites included on the Docket in four areas: (1) Additions, (2) Deletions, (3) Corrections, and (4) No Further Remedial Action Planned (NFRAP) Status Changes. Specifically, additions are newly identified Federal facilities that have been reported to EPA since the last update and that now are being included on the Docket; the deletions section lists Federal facilities that EPA is deleting from the Docket; ¹ the corrections section lists changes in the information about the Federal facilities already listed on the Docket; and the section updating the NFRAP status is new to this Docket update and lists the Federal facilities whose NFRAP status has changed since the last Docket update.

¹ See Section 3.2 for the criteria for being deleted from the Docket.

The information submitted to EPA on each Federal facility is maintained in the Docket repository located in the EPA Regional office of the Region in which the facility is located (see 53 FR 4280 (February 12, 1988) for a description of the information required under those provisions). Each repository contains the documents submitted to EPA under the reporting provisions and correspondence relevant to the reporting provisions for each facility.

2.0 Regional Docket Coordinators

Contact the following Docket coordinators for information on Regional Docket repositories:

Gerardo Millán-Ramos (HBS), U.S. EPA Region 1, #1 Congress St., Suite 1100, Boston, MA 02114-2023, (617) 918-1377.

Helen Shannon (ERRD), U.S. EPA Region 2, 290 Broadway, 18th Floor, New York, NY 10007-1866, (212) 637-4260.

Alida Karas (ERRD), U.S. EPA Region 2, 290 Broadway, New York, NY 10007-1866, (212) 637-4276.

Cesar Lee (3HS50), U.S. EPA Region 3, 1650 Arch Street, Philadelphia, PA 19107, (215) 814-3205.

Gena Townsend (4SF-FFB), U.S. EPA Region 4, 61 Forsyth St., SW., Atlanta, GA 30303, (404) 562-8538.

James Barksdale (4SF-FFB), U.S. EPA Region 4, 61 Forsyth St., SW., Atlanta, GA 30303, (404) 562-8537.

Michael Chrystof (SR-6J), U.S. EPA Region 5, 77 W. Jackson Blvd., Chicago, IL 60604, (312) 353-3705.

Philip Ofosu (6SF-RA), U.S. EPA Region 6, 1445 Ross Avenue, Dallas, TX 75202-2733, (214) 665-3178.

D. Karla Asberry (FFSC), U.S. EPA Region 7, 901 N. Fifth Street, Kansas City, KS 66101, (913) 551-7595.

Stan Zawistowski (EPR-F), U.S. EPA Region 8, 1595 Wynkoop Street, Denver, CO 80202 (303) 312-6255.

Philip Armstrong (SFD-9-1), U.S. EPA Region 9, 75 Hawthorne Street, San Francisco, CA 94105, (415) 972-3098.

Monica Lindeman (ECL, ABU # 1), U.S. EPA Region 10, 1200 Sixth Avenue, Seattle, WA 98101, (206) 553-5113.

Ken Marcy (ECL, ABU # 1), U.S. EPA Region 10, 1200 Sixth Avenue, Seattle, WA 98101, (206) 463-1349.

3.0 Revisions of the Previous Docket

Following is a discussion of the additions, deletions, corrections, and NFRAP status changes to the list of Docket facilities since the previous Docket update.

3.1 Additions

Today, 13 Federal facilities are being added to the Docket, primarily because of new information obtained by EPA (for example, recent reporting of a facility pursuant to RCRA sections 3005, 3010, or 3016 or CERCLA section 103). SARA, as amended by the Defense Authorization Act of 1997, specifies that EPA take steps to assure that a Preliminary Assessment (PA) be completed within a reasonable time frame for those Federal facilities that are included on the Docket. Among other things, the PA is designed to provide information for EPA to consider when evaluating the site for potential response action or listing on the NPL.

3.2 Deletions

Today, 2 Federal facilities are being deleted from the Docket. There are no statutory or regulatory provisions that address deletion of a facility from the Docket. However, if a facility is incorrectly included on the Docket, it may be deleted from the Docket; this may be appropriate for a facility for which there was an incorrect report submitted for hazardous waste activity under RCRA (40 CFR 262.44); a facility that was not Federally-owned or operated at the time of listing; facilities included more than once (i.e., redundant listings); or when multiple facilities are combined. Facilities being deleted no longer will be subject to the requirements of CERCLA section 120(d).

3.3 Corrections

Changes necessary to correct the previous Docket were identified by both EPA and Federal agencies. The corrections include changes in addresses or spelling, corrections of the recorded name and ownership of a Federal facility, and additional reporting mechanisms. In addition, some changes in the names of Federal facilities were made to establish consistency in the Docket or between the Superfund Comprehensive Environmental Response, Compensation, and Liability Information System (CERCLIS) and the Docket. For each Federal facility for which a correction has been entered, the original entry (designated by an “o”), as it appeared in previous Docket updates, is shown directly below the corrected entry (designated by a “c”) for easy comparison. Today, information is being corrected for 11 facilities.

3.4 NFRAP Status Changes

Today's update to the Docket includes a new chart showing 7 sites with changes in their NFRAP status. When a Federal facility listed on the Docket provides a PA (and if warranted a Site Inspection (SI)) for a site to EPA, EPA evaluates the site in accordance with the Hazard Ranking System (HRS) to determine whether the site scores sufficiently high to warrant NPL listing. If EPA determines that the facility or site does not pose a threat sufficient to warrant Superfund action, EPA typically will designate the site status as NFRAP under Superfund. An “N” in this chart designates the site as NFRAP.

4.0 Process for Compiling the Updated Docket

In compiling the newly reported Federal facilities for the update being published today, EPA extracted the names, addresses, and identification numbers of facilities from four EPA databases—Emergency Response Notification System (ERNS), the Biennial Inventory of Federal Agency Hazardous Waste Activities, the Resource Conservation and Recovery Information System (RCRAInfo), and CERCLIS—that contain information about Federal facilities submitted under the four provisions listed in CERCLA section 120(c).

EPA assures the quality of the information on the Docket by conducting extensive analysis of the current Docket list with the information obtained from the databases identified above to determine which Federal facilities were, in fact, newly reported and qualified for inclusion on the update. EPA is also striving to correct errors for Federal facilities that were previously reported. For example, state-owned or privately owned facilities that are not operated by the Federal government may have been included. Such problems are sometimes caused by procedures historically used to report and track Federal facilities data. EPA is working to resolve them. Representatives of Federal agencies are asked to write to EPA's Docket coordinator at the following address if revisions of this update information are necessary: Tim Mott, Federal Agency Hazardous Waste Compliance Docket Coordinator, Federal Facilities Restoration and Reuse Office (Mail Code 5106P), U.S. Environmental Protection Agency, 1200 Pennsylvania Avenue, NW., Washington, DC 20460.

5.0 Facilities Not Included

Certain categories of facilities may not be included on the Docket, such as: (1) Federal facilities formerly owned by a Federal agency that at the time of consideration are not Federally-owned or operated; (2) Federal facilities that are small quantity generators (SQGs) that have never generated more than 1,000 kg of hazardous waste in any month; (3) Federal facilities that are solely transporters, as reported under RCRA section 3010; and (4) Federal facilities that have mixed mine or mill site ownership. An EPA policy issued in June, 2003 provided guidance for a site-by-site evaluation as to whether “mixed ownership” mine or mill sites, created as a result of the General Mining Law of 1872 and never reported under CERCLA section 103(a), should be included on the Docket. For purposes of that guidance, mixed ownership mine or mill sites are those located partially on private land and partially on public land. This guidance is found at http://www.epa.gov/fedfac/pdf/mixownrshpmine.pdf. The guidance for not including these facilities may change; facilities now not included may be added at some point if EPA determines that they should be included.

6.0 Facility Status Reporting, Including NFRAP Status Updates

EPA typically tracks the status of Federal facilities listed on the Docket. When a Federal facility listed on the Docket provides a PA (and if warranted a Site Inspection (SI)) for a site to EPA, EPA evaluates the site in accordance with the HRS to determine whether the site scores sufficiently high to warrant NPL listing. If EPA determines that the facility or site does not pose a threat sufficient to warrant Superfund action, EPA typically will designate the site status as NFRAP under Superfund. A decision not to take further response/remedial action under the Superfund program usually is based on a finding that there is no significant threat to human health or the environment, and EPA would not propose to list the site on the NPL at that time. If new or additional information becomes available suggesting that the site may warrant further evaluation, EPA will re-evaluate the site accordingly. This decision does not preclude any further action at the Federal facility or site by another EPA program, the State or other Federal agency. Generally, NFRAP status pertains to sites included in the CERCLIS Inventory.

When a Federal facility is listed on the Docket, the FR Notice normally indicates whether the facility is currently on the NPL, is not on the NPL, or it is undecided whether the site will be on the NPL. Generally, the designation of “undecided” is used for sites still being evaluated to determine if the site warrants NPL listing.

An updated list of the NPL status of all Docket facilities, as well as their NFRAP status, is available at http://www.epa.gov/fedfac/documents/docket.htm.

7.0 Information Contained on Docket Listing

The updated information is provided in four tables. The first table is a list of new Federal facilities that are being added on the Docket. The second is a list of Federal facilities that are being deleted from the Docket. The third contains corrections of information included on the Docket. Each Federal facility listed in the update has been assigned a code(s) that indicates a more specific reason(s) for the addition, deletion, or correction. The code key precedes the lists. The fourth table lists updates to NFRAP status.

The facilities listed in each table are organized by state and then grouped alphabetically within each state by the Federal agency responsible for the facility. Under each state heading is listed the name and address of the facility, the Federal agency responsible for the facility, the statutory provision(s) under which the facility was reported to EPA, and the code(s).

The statutory provisions under which a facility reported are listed in a column titled ”Reporting Mechanism.” Applicable mechanisms are listed for each facility: for example 3010, 3016, 103(c), or Other. “Other” has been added as a reporting mechanism to indicate those Federal facilities that otherwise have been identified to have releases or threat of releases of hazardous substances. The National Contingency Plan 40 CFR 300.405 addresses discovery or notification and outlines what constitutes discovery of a hazardous substance release, and states that a release may be discovered in several ways, including (1) A report submitted in accordance with section 103(a) of CERCLA, i.e., reportable quantities codified at 40 CFR part 302; (2) A report submitted to EPA in accordance with section 103(c) of CERCLA; (3) Investigation by government authorities conducted in accordance with section 104(e) of CERCLA or other statutory authority; (4) Notification of a release by a Federal or state permit holder when required by its permit; (5) Inventory or survey efforts or random or incidental observation reported by government agencies or the public; (6) Submission of a citizen petition to EPA or the appropriate Federal facility requesting a preliminary assessment, in accordance with section 105(d) of CERCLA; (7) A report submitted in accordance with section 311(b)(5) of the Clean Water Act (CWA); and (8) Other sources. As a policy matter, EPA generally believes it is appropriate for Federal facilities identified through the CERCLA discovery and notification process to be included on the Docket.

The complete list of Federal facilities that now make up the Docket and the NPL and NFRAP status of each are available to interested parties and can be obtained at http://www.epa.gov/fedfac/documents/docket.htm by clicking on the link for Federal Agency Hazardous Waste Compliance Docket Update #22 or by calling Tim Mott, the EPA HQ Docket Coordinator at (703) 603-8807. As of today, the total number of Federal facilities that appear on the Docket is 2,293.

Dated: August 9, 2007.
John E. Reeder,
Director, Federal Facilities Restoration and Reuse Office, Office of Solid Waste and Emergency Response.

Docket Codes

Categories for Deletion of Facilities

(1) Small-Quantity Generator.

(2) Never Federally Owned and/or Operated.

(3) Formerly Federally Owned and/or Operated (at time of listing), but not now.

(4) No Hazardous Waste Generated.

(5) (This code is no longer used.)

(6) Redundant Listing/Site on Facility.

(7) Combining Sites Into One Facility/ Entries Combined.

(8) Does Not Fit Facility Definition.

(9) (This code is no longer used.)

(10) (This code is no longer used.)

(11) (This code is no longer used.)

(12) (This code is no longer used.)

(13) (This code is no longer used.)

(14) (This code is no longer used.)

Categories for Addition of Facilities

(15) Small-Quantity Generator with either a RCRA 3016 or CERCLA 103 Reporting Mechanism.

(16) One Entry Being Split Into Two (or more)/ Federal Agency Responsibility Being Split.

(17) New Information Obtained Showing That Facility Should Be Included.

(18) Facility Was a Site on a Facility That Was Disbanded; Now a Separate Facility.

(19) Sites Were Combined Into One Facility.

(19A) New currently Federally owned and/or operated Facility site.

Categories for Corrections of Information About Facilities

(20) Reporting Provisions Change.

(20A) Typo Correction/Name Change/Address Change.

(21) Changing Responsible Federal Agency. (If applicable, new responsible Federal agency must submit proof of previously performed PA, which is subject to approval by EPA.)

(22) Changing Responsible Federal Agency and Facility Name. (If applicable, new responsible Federal agency must submit proof of previously performed PA, which is subject to approval by EPA.)

(23) New Reporting Mechanism Added at Update.

(24) Reporting Mechanism Determined To Be Not Applicable After Review of Regional Files.

Federal Agency Hazardous Waste Compliance Docket Update #22—Additions
Facility name | Address | City | State | Zip code | Agency | Reporting mechanism | Code
Camp Lonely Landfill Site | Pitt Point, 1 Mi W of Pt. Lonely, W Edge of Gravel Path, T18N R5W, SEC18 SE¼, Umiat Meridian | Niuiqsuit | AK | 99789 | USDOI-BLM | 3010 | 19A
EPA Region 7 Science & Tech Ctr | 300 Minnesota Ave | Kansas City | KS | 66101 | EPA | 3010 | 19A
Ellis Island National Monument | Ellis Island | Jersey City | NJ | 07305 | Interior | 3010 | 19A
General Services Administration | 1900 River Road | Burlington | NJ | 08016 | General Services Administration | 3010 | 19A
USAF ANG Kingsley Air Field, 173 FW EM | Kingsley Field, 211 Arnold Ave | Klamath Falls | OR | 97603-021 | Air Force | 3010 | 19A
Malheur NF: Roba Westfall Mine | T16S R29E SEC6, +44°12′37″ N,-119° 16′ 57″ W | John Day | OR | 97845 | USDA-FS | Other | 19A
Malheur NF: York & Rannels Mines | T16S R29E SEC7, +44°11′49″ N,-119°17′14″ W | John Day | OR | 97845 | USDA-FS | Other | 19A
Umatilla NF: Ajax Mine | T8S R35E.SEC22, +44°51′25″ N,-118°24′16″ W | Granite | OR | 97877 | USDA-FS | Other | 19A
Umatilla NF: Blackjack Mine | T9S R35E SEC14, +44°47′09″ N,-118°27′59″ W | Granite | OR | 97877 | USDA-FS | Other | 19A
Umatilla NF: Bluebird Mine | T9S R35E SEC11, +44°45′59″ N,-118°29′37″ W | Granite | OR | 97877 | USDA-FS | Other | 19A
Umatilla NF: Magnolia Mine | T8S R35E SEC22, +44°51′32″ N, -118°24′08″ W | Granite | OR | 97877 | USDA-FS | Other | 19A
Umpqua NF: Champion Mine | T23S R1E SEC13, +43°34′50″ N, -122°37′49″ W | Cottage Grove | OR | 97424 | USDA-FS | Other | 19A
Colville NF: Oriole Mine | T39N R43E SEC19 SE CORNER, +48°51′36.69″ N, -117°24′46.42″ W | Metaline | WA | 99152 | USDA-FS | Other | 19A

Federal Agency Hazardous Waste Compliance Docket Update #22—Corrections
Facility name | Address | City | State | Zip code | Agency | Reporting mechanism | Code
c-USDA FS Tongass NF: East Side Sitkoh Bay Ltf | T50S R66E SEC23, Copper River Meridian, Sitkoh Bay, Chichagof Isl., near Angoon | Sitka | AK | 99835 | Agriculture | 103c 3010 | 20A, 23
o-FS—Tongass NF: East Side Sitkoh Bay | LAT 57 31.19 N, Chichagof Island | Sitka | AK | 99835 | Agriculture | 3010 |
c-FAA—Middleton Island Station | 80 Mi S of Cordova, +59° 27′ 02″ N, -146° 18′24″ W | Cordova | AK | 99574 | Transportation | 3016 103c 3010 | 20A, 23
o-FAA-Middleton Island Station | 59D27M02SN, 146D18M24SW, 80 Mi S of Cordova | Cordova | AK | 99574 | Transportation | 3016 | 103c
c-FHWA Central Direct Fed. Div Materials | Denver Federal Center Bldg-52 | Denver | CO | 80225 | General Services Administration | 3005 3010 103c 3016 | 20A, 21
o-FHWA Central Direct Fed. Div Materials | 6th St., Bldg 52, DFC | Denver | CO | 80225 | Transportation | 3005 3010 103c 3016 |
c-Naval Reserve Station, Dubuque | 10677 Airport Road | Dubuque | IA | 52003 | Navy | 103c 3010 | 23
o-Dubuque Naval Reserve Station | 10677 Airport Rd | Dubuque | IA | 52003 | Navy | 3010 |
c-US Marine Corps | 10810 Natural Bridge Rd | Bridgeton | MO | 63044 | Navy | 103c 3010 | 23
o-Naval And Marine Corps Reserve | 10810 Lambert International | Bridgeton | MO | 63044 | Navy | 3010 |
c-St Louis Army Ammunition Plant | 4800 Goodfellow Blvd | St Louis | MO | 63120 | Army | 3016 103c 3010 | 23
o-St. Louis Army Ammunition Plant | 4800 Goodfellow Blvd. | St. Louis | MO | 63120 | Army | 3016 103c |
c-Wappapello Training Site | Highway T, County Road 517, Butler County | Wayne City | MO | 63966 | Army | 3016 103c | 20A
o-Wappapello Training Site | Hwy T | Wayne City | MO | 63966 | Army | 3016 103c |
c-Jackson Homer (Ex) Beacon Annex | E. of Jackson on a Gravel Road, South of Sioux City just north of Hwy 20 | Jackson | NE | 68743 | Transportation | 103c | 20A
o-Jackson Homer (Ex) Beacon Annex | [No address] | Jackson | NE | 68743 | Transportation | 103c |
c-Erie National Wildlife Refuge | One Wood Duck Lane | Guys Mill | PA | 16327 | Interior | 103c 3016 | 20A
o-FWS—Erie National Wildlife Refuge | 11926 Wood Duck Lane | Guys Mill | PA | 16327-9499 | Interior | 103c 3016 |
c-Steamtown National Historic Site | 105 So. Washington Ave | Scranton | PA | 18503 | Interior | 103c | 20A
o-NPS—Steamtown National Historic Site | 105 So. Washington Ave | Scranton | PA | 18503 | Interior | 103c |
c-GWMP Turkey Run Park Site | Parkway Headquarters Bldg., Turkey Run, Geo. Washington Mem. Parkway | McLean | VA | 22101 | Interior | 103c | 20A
o-NPS—George Washington Memorial Parkway | Turkey Run Park | McLean | VA | 22102 | Interior | 103c |

Federal Agency Hazardous Waste Compliance Docket Update #21—Deletions
Facility name | Address | City | State | Zip code | Agency | Reporting mechanism | Code
FWS—Cabeza Prieta National Wildlife | 1611 North Second Avenue | Ajo | AZ | 85321-1634 | Interior | 3016 | 6
FWS—Imperial National Wildlife | Red Cloud Mine Road | Martinez Lake | AZ | 85365 | Interior | 3016 | 4

Federal Agency Hazardous Waste Compliance Docket Update #22—NFRAP Status Changes (N=NFRAP)
Facility name | Address | City | State | Zip code | Agency | Reporting mechanism | NFRAP status
David Taylor/Annapolis-Launch | Bayhead Road | Annapolis | MD | 21401 | Defense | 3010, 103c | N
Jackson Homer (Ex) Beacon Annex | E. of Jackson on a Gravel Road, South of Sioux City just north of Hwy 20 | Jackson | NE | 68743 | Transportation | 103c | N
Lynn Keller Property | SEC 6 T16N R8E | Cedar Bluffs | NE | 68015 | Agriculture | 103c 3016 | N
Erie National Wildlife Refuge | One Wood Duck Lane | Guys Mill | PA | 16327 | Interior | 103c 3016 | N
Bergstrom Air Reserve Station | 2502 Hwy 71 E | Austin | TX | 78719 | Air Force | 3010 | N
Green River Launch Complex | 1.2 Mi Se Of Green River | Green River | UT | 84525 | Army | 103c | N
GWMP Turkey Run Park Site | Parkway Headquarters Bldg., Turkey Run, Geo. Washington Mem. Parkway | McLean | VA | 22101 | Interior | 103c | N

[FR Doc. E7-16231 Filed 8-16-07; 8:45 am]

BILLING CODE 6560-50-P